DEPARTMENT OF COMMERCE

International Trade Administration

[A-485-805]

Certain Small Diameter Carbon and Alloy Seamless Standard, Line and Pressure Pipe From Romania: Extension of Preliminary Results of Antidumping Duty Administrative Review

AGENCY: Import Administration, International Trade Administration, Department of Commerce.

EFFECTIVE DATE: May 28, 2002.

FOR FURTHER INFORMATION CONTACT: Tisha Loeper-Viti at (202) 482-7425 or Charles Riggle at (202) 482-0650, Office of AD/CVD Enforcement 5, Import Administration, International Trade Administration, U.S. Department of Commerce, 14th Street and Constitution Avenue, NW., Washington, DC 20230.

Time Limits

Statutory Time Limits

Section 751(a)(3)(A) of the Tariff Act of 1930, as amended (the Act), requires the Department to complete the preliminary results within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested and for the final results to 180 days (or 300 days if the Department does not extend the time limit for the preliminary results) from the date of publication of the preliminary results.

Background

On October 1, 2001, the Department of Commerce (the Department) published a notice of initiation of administrative review of the antidumping duty order on certain small diameter carbon and alloy seamless standard, line and pressure pipe from Romania, covering the period February 4, 2000, through July 31, 2001 (66 FR 49924). On May 8, 2002, the Department published, in the Federal Register, a notice to extend the deadline for the preliminary results in this administrative review until May 24, 2002. See Certain Small Diameter Carbon and Alloy Seamless Standard, Line and Pressure Pipe from Romania: Extension of Preliminary Results of Antidumping Duty Administrative Review, 67 FR 30874 (May 8, 2002). On May 10, 2002, the Romanian Ministry of Foreign Affairs filed a request for revocation of Romania's non-market economy status.

Extension of Time Limit for Preliminary Results of Review

We determine that it is not practicable to complete the preliminary results of this review within the extended time limit. Specifically, additional time is necessary to consider the proper surrogate valuation of the factors of production. In addition, the Department only recently received a request from the Romanian Ministry of Foreign Affairs to revoke Romania's non-market economy status in either a free standing proceeding or in this administrative review. Additional time is necessary to consider this request. As such, it will not be possible to complete the preliminary analysis in this review by May 24, 2002. Therefore, the Department is fully extending the time limit for completion of the preliminary results until no later than September 3, 2002. We intend to issue the final results no later than 120 days after publication of the preliminary results notice.

This extension is in accordance with section 751(a)(3)(A) of the Act.

Dated: May 21, 2002.
Bernard Carreau,
Deputy Assistant Secretary for AD/CVD Enforcement II.

[FR Doc. 02-13271 Filed 5-24-02; 8:45 am]

BILLING CODE 3510-DS-P